DEPARTMENT OF THE INTERIOR

Fish and Wildlife Service

[Docket No. FWS-R1-ES-2022-0074; FXES11140100000-223-FF01E0000]

Barred Owl Management Strategy; Intent To Prepare an Environmental Impact Statement; Washington, Oregon, and California

AGENCY: Fish and Wildlife Service, Interior.

ACTION: Notice of intent to prepare an environmental impact statement.

SUMMARY: We, the U.S. Fish and Wildlife Service (USFWS), are developing a proposed barred owl management strategy (management strategy) to address the threat of the nonnative, invasive barred owl (Strix varia) to the native northern and California spotted owls (Strix occidentalis). Implementation of the management strategy would require the take of barred owls, which is prohibited under the Migratory Bird Treaty Act (MBTA) unless authorized by a permit or regulation. We provide this notice to announce our intent to prepare an environmental impact statement to evaluate the impacts on the human environment related to the proposed management strategy and associated MBTA take authorization. In accordance with the National Environmental Policy Act, we are opening a public scoping comment period to help determine the scope of issues for analysis and announcing a virtual public scoping meeting.

DATES: We will accept online or hardcopy comments. Comments submitted online at https://www.regulations.gov/ must be received by 11:59 p.m. Eastern Time on August 22, 2022. Hardcopy comments must be received or postmarked on or before August 22, 2022 (see ADDRESSES).

Virtual Public Scoping Meeting

We will hold a virtual public meeting during the scoping period. To provide for the attendance of interested parties across the three-State area without requiring travel to an in-person meeting, and to protect the public from potential spread of the COVID-19 virus, the public meeting will be held virtually on July 28, 2022, from 6 to 8 p.m. Pacific time.

ADDRESSES:

Submitting Comments: You may submit comments by one of the following methods:

• Internet: https://www.regulations.gov. Follow the instructions for submitting comments on Docket No. FWS-R1-ES-2022-0074.

• U.S. mail: Public Comments Processing; Attn: Docket No. FWS-R1-ES-2022-0074; U.S. Fish and Wildlife Service Headquarters, MS: PRB/3W; 5275 Leesburg Pike, Falls Church, VA 22041-3803.

For additional information about submitting comments, see Public Scoping Process under SUPPLEMENTARY INFORMATION.

Virtual Public Scoping Meeting: A link and access instructions for the virtual scoping meeting will be posted to https://www.fws.gov/office/oregon-fish-and-wildlife at least 1 week prior to the public meeting date. Advance registration is not required.

FOR FURTHER INFORMATION CONTACT: Robin Bown, by telephone at 503-231-6923, or by email at Robin_Bown@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the U.S. Fish and Wildlife Service (USFWS), are developing a proposed barred owl management strategy (management strategy) to address the threat the nonnative invasive barred owl poses to two native owl subspecies in the West, the northern spotted owl (Strix occidentalis caurina) and California spotted owl (Strix occidentalis occidentalis). The management strategy would involve the reduction of barred owl populations in targeted management areas in Washington, Oregon, and California. We will prepare an environmental impact statement (EIS) to evaluate the effects on the human environment related to the proposed action, due to the large scale of the action area across three States and the high level of public interest in this action.

Background

Barred owls are native to eastern North America. They began to expand their range around 1900, concurrent with European settlement and facilitated by the subsequent human-caused changes to the Great Plains and northern boreal forest. Barred owls arrived in the Pacific Northwest in the early 1970s, establishing populations in northern Washington in the early 1980s. They continue to spread southward in the Cascades and coastal mountains, building dense populations behind the invasion front.

The barred owl is slightly larger in size than the native spotted owl of the western forests. While barred owls prefer the same older, structurally diverse forest type selected by spotted owls, barred owls will utilize a wider range of forested habitat types than spotted owls, including wooded urban areas and large tracts of second-growth forests. In addition, barred owls are generalist predators, eating a much wider variety of prey items than the specialist spotted owls. Barred owls consume the same nocturnal arboreal rodents that are the focus of the spotted owls' diet, and also consume numerous other species, including other mammals, amphibians, insects, crayfish, and mollusks. Because of their larger size, adaptability to a wide variety of forested habitats, and ability to eat a wide variety of prey, barred owls occur in denser populations, outcompeting and excluding spotted owls from the latter's preferred habitats.

By 2004, we identified competition from the invasive barred owl as a primary threat to northern spotted owl populations (USFWS 2004). The 2011 Revised Recovery Plan for the Northern Spotted Owl (USFWS 2011) recommended that we manage to reduce the negative effects of barred owls on northern spotted owls (Recovery Action 30) (USFWS 2011). Based on the recent demographic analysis, northern spotted owl populations in the northern half of the species' range have dropped by over 75 percent in two decades and continue to decline at greater than 5 percent per year (Franklin et al. 2021). Without management of barred owls, extirpation of northern spotted owls from major portions of their historic range is likely in the near future.

In recent years, barred owls have penetrated into the range of the California spotted owl in the Sierra Nevada Mountains, although their population remains low and scattered at this time (Wood et al. 2020). While barred owls have not substantially impacted California spotted owls to date, the history of the invasion and impacts on northern spotted owls supports the assumption that, unless the barred owl populations can be managed, barred owls will continue to invade southward until barred owls threaten the California spotted owl.

In 2013, we initiated the Barred Owl Removal Experiment (Removal Experiment), implementing Recovery Action 29 for the northern spotted owl (USFWS 2011) to investigate the effect of barred owl removal on spotted owl population dynamics. The Removal Experiment, conducted in four study areas in Washington, Oregon, and California, used paired treatment areas (barred owl removal) and control areas (no barred owl removal), in order to test whether barred owl removal could reverse declining spotted owl population trends in study areas with differing environmental conditions. The removal of barred owls had a strong, positive effect on survival of spotted owls and a weaker, though still positive, effect on spotted owl dispersal and recruitment (Wiens et al. 2021). In the treatment areas where barred owls were removed, spotted owl populations stabilized. In paired control areas without barred owl removal, spotted owl populations continued to decline at 12 percent per year after 3 to 6 years of removal. The Removal Experiment demonstrated that barred owl removal can be an effective method for the conservation of spotted owls.

Using information from the recently completed Removal Experiment and other applicable studies and research findings, the USFWS is developing a proposed management strategy designed to reduce barred owl populations to improve the survival and recovery of northern spotted owls and to prevent declines in California spotted owls resulting from barred owl competition.

Implementation of a management strategy would involve take of barred owls. The barred owl is protected under the Migratory Bird Treaty Act (MBTA; 16 U.S.C. 793 et seq.), which prohibits take (as defined at 50 CFR 10.12) of protected migratory bird species unless authorized by the USFWS in accordance with the MBTA and implementing regulations. We propose to obtain authorization under the MBTA to allow the USFWS and other interested governmental agencies (Federal, State, or Tribal) to take barred owls as part of implementing the management strategy. Nongovernmental take may be authorized under an agency's authorization. Our EIS will evaluate the environmental impacts of the management strategy and the associated MBTA take authorization, as well as alternatives to the management strategy, including a no-action alternative.

Purpose and Need for the Proposed Action

The purpose of this action is to reduce barred owl populations to improve the survival and recovery of northern spotted owls and to prevent declines in California spotted owls from barred owl competition. Relative to northern spotted owls, the purpose is to stop or slow spotted owl population declines from barred owls within selected treatment areas in the short term and increase spotted owl populations in the intermediate term. Relative to the California spotted owl, the purpose is to limit the invasion of barred owls into the range of the subspecies and respond quickly to reduce barred owl populations that may become established.

The need for this action is to reduce the population of invasive barred owls within the range of northern and California spotted owls. Competition from the invasive barred owl is a primary cause of the rapid and ongoing decline of northern spotted owl populations. Due to the rapidity of the decline, it is critical that we manage invasive barred owl populations to reduce their negative effect on spotted owls before northern spotted owls are extirpated from large portions of their native range. In the recent northern spotted owl demographic analyses, the authors stated, “Our analyses indicated that northern spotted owl populations potentially face extirpation if the negative effects of barred owls are not ameliorated while maintaining northern spotted owl habitat across their range” (Franklin et al. 2021). The Recovery Plan also emphasized the need for action in Recovery Action 30: “Manage to reduce the negative effects of barred owls on northern spotted owls so that Recovery Criterion 1 can be met.” Recovery Criterion 1 is to provide for a stable or increasing population trend of spotted owls throughout the range over 10 years. Therefore, the management strategy needs to provide for rapid implementation and result in swift reduction in barred owl competition.

California spotted owls face a similar risk from barred owl competition as barred owl populations continue to expand southward. While California spotted owls have not yet experienced substantial declines as a result of barred owl competition, the southward invasion of the barred owl has reached their range, and future impacts to California spotted owl populations are expected to be inevitable without barred owl management. Invasive species are very difficult to remove once established. Therefore, the management strategy needs to focus on limiting the invasion of barred owls into the California spotted owl range. If barred owl populations do become established, the management strategy needs to provide for early intervention to prevent adverse effects of barred owls on California spotted owl populations.

Preliminary Proposed Action and Alternatives

The proposed action is to finalize and implement a management strategy, including any necessary MBTA take authorization, to reduce barred owl populations to improve the survival and recovery of northern spotted owls and prevent declines in California spotted owls from barred owl competition. The management strategy will identify high-priority areas for barred owl management at both regional and local scales and for both the short and intermediate term. The scope and scale of barred owl management in each region or physiographic province would vary based on the current condition of the barred and spotted owl populations, availability of access, ownership patterns, and risk factors such as wildfire. The USFWS will evaluate all methods for removing barred owls from management areas, including lethal removal, which has been shown to be effective in situations where a rapid response is crucial.

The USFWS will prepare a draft EIS (DEIS) that will include a reasonable range of alternatives, which may include, but are not limited to, variations in the identification of high priority management sites, areas of concern, and specific mapped areas; protocols for the selection of management areas; and methods for managing barred owls in selected areas. All action alternatives will include monitoring of spotted and barred owls on management areas, and an adaptive management component to provide for minor modifications as new information becomes available.

Additionally, a No Action Alternative will be evaluated. Under the No Action Alternative, a management strategy would not be selected, and no MBTA take authorization would be provided to implement the management strategy. The No Action Alternative, if selected, would not preclude the USFWS or other entities from seeking to undertake barred owl management, including lethal removal. Any such management, if it required take of barred owls, would also require MBTA take authorization. The USFWS would evaluate such proposals on a case-by-case basis, including evaluation under NEPA as appropriate to the circumstances.

Summary of Expected Impacts

The DEIS will identify and describe the effects of the proposed Federal action on the human environment that are reasonably foreseeable, including direct, indirect, and cumulative effects. This includes effects that occur at the same time and place as the proposed action or alternatives and effects that are later in time or farther removed in distance from the proposed action or alternatives. Based on previous analyses related to the Barred Owl Removal Experiment (USFWS 2013), the anticipated impacts may include, but are not limited to, beneficial and adverse impacts to spotted owls, barred owls, other biological resources, land use, recreation and visitor use, historical and cultural resources, and socioeconomics. Beneficial impacts to spotted owls and localized adverse impacts to barred owls are expected, as these are the focus of the management strategy. Beneficial impacts to other biological resources, specifically to species that are prey for, or competitors with, barred owls may occur in localized areas where barred owl populations are reduced. Minimal localized, beneficial, and/or adverse impacts to recreation and visitor use, and to historical and cultural resources, may occur in areas where barred owl populations are reduced. Impacts to land use and socioeconomics may occur through application of applicable law, including local and State regulations. These and other impacts of the proposed action and alternatives will be analyzed in the DEIS (see 40 U.S.C. 4332; 40 CFR 1508.1(g) and 1502.16). The analysis will consider the adequacy of each alternative to meet the purpose and need, in light of the expected effects and other best available information.

Anticipated Permits and Authorizations

Anticipated permits, consultations, or other authorizations related to implementation of the management strategy and issuance of MBTA take authorization may include, but may not be limited to:

• ESA Section 7 consultation;

• State take permits;

• Government-to-government consultations with Tribes; and

• Consultation regarding effects of the action pursuant to the National Historic Preservation Act.

Schedule for the Decision-Making Process

Following scoping, the USFWS will prepare the DEIS and publish a notice of availability and request for public comments on the DEIS in the Federal Register. The USFWS expects to make the DEIS available to the public for comment by the fall of 2022. After public review and comment, the USFWS will evaluate comments received and complete a final EIS (FEIS). After preparation of the FEIS, the USFWS will prepare a record of decision pursuant to 40 CFR 1505.2 within the applicable timeframes described at 40 CFR 1506.11.

Public Scoping Process

This notice of intent initiates the scoping process, which guides the development of the EIS.

Virtual Public Meeting

A public scoping meeting will be conducted online. See DATES and ADDRESSES for the date, time, and connection information for the virtual public scoping meeting. During the meeting, the USFWS will present information about the management strategy and MBTA take authorization and provide an opportunity for the public to ask questions about the proposed action to inform written scoping comments. No opportunity for oral scoping comments will be provided. Written comments may be submitted by either one of the methods listed in ADDRESSES.

Reasonable Accommodations

Persons needing reasonable accommodations in order to participate in the virtual public scoping meeting should contact the USFWS's Oregon Fish and Wildlife Office (see FOR FURTHER INFORMATION CONTACT) no later than 1 week before the meeting. Information regarding this proposed action is available in alternative formats upon request.

Request for Identification of Potential Alternatives, Information, and Analyses Relevant to the Proposed Action

We request written comments on the proposed action, including comments concerning the appropriate scope of the analysis and identification of relevant information, studies, and analyses, from the public; affected Federal, State, Tribal, and local governments, agencies, and offices; the scientific community; industry; or any other interested party. We will consider these comments in developing the DEIS. Specifically, we seek comments on:

1. Biological information, analysis and relevant data concerning the spotted owl, barred owl, and their interactions;

2. Components of the barred owl strategy, including but not limited to:

a. Criteria and approaches for selecting management areas;

b. Locations where barred owl management should be focused or where management should be avoided; and

c. Specific techniques for removal of barred owls or reduction in barred owl populations;

3. Potential effects that the proposed action could have on endangered or threatened species, and their associated ecological communities or habitats;

4. Potential effects that the proposed action could have on other species and their habitats;

5. Potential effects that the proposed action could have on other aspects of the human environment, including ecological, aesthetic, historic, cultural, economic, social, environmental justice, or health effects;

6. The presence of historic and cultural properties—including archaeological sites, buildings, and structures; historic events; sacred and traditional areas; and other historic preservation concerns—in the proposed permit area, which are required to be considered in project planning by the National Historic Preservation Act;

7. Possible reasonable alternatives to meet the purpose and need that USFWS should consider,

8. Information on other current or planned activities in the range of the northern and California spotted owls that may interact with, or impact, spotted and barred owls, including any connected actions that are closely related to the proposed action; and

9. Other information relevant to the proposed management strategy and MBTA take authorization, and its impacts on the human environment.

Public Availability of Comments

You may submit your comments and materials by one of the methods listed in ADDRESSES. Comments received in response to this solicitation will be part of the public record for this proposed action. Before including your address, phone number, or other personal identifying information in your comment, you should be aware that your entire comment—including your personal identifying information—may be made publicly available at any time. While you can ask us in your comment to withhold your personal identifying information from public review, we cannot guarantee that we will be able to do so. All submissions from organizations or businesses, and from individuals identifying themselves as representatives or officials of organizations or businesses, will be made publicly available in their entirety. Comments submitted anonymously will be accepted and considered.

Lead and Cooperating Agencies

The USFWS is the lead agency for the NEPA process. The following agencies are cooperating agencies in the NEPA process: U.S. Forest Service (Regions 5 and 6), Bureau of Land Management (Oregon), National Park Service (Interior Regions 8, 9, 10, 12), the Hoh Tribe, Washington Department of Fish and Wildlife, Washington Department of Natural Resources, Oregon Department of Forestry, Oregon Department of Fish and Wildlife, California Department of Fish and Wildlife, and the California Department of Forestry and Fire Protection. The USFWS welcomes inquiries from other Federal, State, or Tribal agencies potentially interested in being a cooperating agency for the NEPA process.

Decision Maker and Nature of Decision To Be Made

The decision maker is the USFWS Regional Director of the Pacific Region. The decision to be made is whether to implement a management strategy and authorize the take of barred owls under the MBTA to implement the selected management strategy as needed, or to select the No Action Alternative and not implement a management strategy and associated MBTA take authorization.

Literature Cited

Franklin, A.B., et al. 2021. Range-wide declines of northern spotted owl populations in the Pacific Northwest: A meta-analysis. Biological Conservation, Vol. 259 (2021) 109168. 21 pp.

U.S. Fish and Wildlife Service (USFWS). 2004. Northern spotted owl: Five Year Review Summary and Evaluation. U.S. Fish and Wildlife Service, Portland, Oregon.

U.S. Fish and Wildlife Service (USFWS). 2011. Revised Recovery Plan for the Northern Spotted Owl (Strix occidentalis caurina). U.S. Fish and Wildlife Service, Portland, Oregon.

Wiens, J.D., et al. 2021. Invader removal triggers competitive release in a threatened avian predator. PNAS, Vol. 118, No. 31, e2102859118 (2021); https://www.pnas.org/doi/full/10.1073/pnas.2102859118.

Wood, C.M., R.J. Gutiérrez, J.J. Keane, and M.Z. Peery. 2020. Early detection of rapid Barred Owl population growth within the range of the California Spotted Owl advises the Precautionary Principle. The Condor, Volume 122, pp. 1-10.

Authority

We provide this notice in accordance with the NEPA regulations found at 40 CFR 1501.9(d).

Nanette Seto,
Acting Deputy Regional Director, U.S. Fish and Wildlife Service.

[FR Doc. 2022-15739 Filed 7-21-22; 8:45 am]

BILLING CODE 4333-15-P